FEDERAL RETIREMENT THRIFT INVESTMENT BOARD

Notice of Board Meeting

DATES: December 19, 2024 at 10 a.m. ET.

ADDRESSES: Telephonic. Dial-in (listen only) information: Number: 1-202-599-1426, Code: 454 381 790#; or via web: https://www.frtib.gov/.

FOR FURTHER INFORMATION CONTACT: Kimberly Weaver, Office of External Affairs, (202) 942-1640.

SUPPLEMENTARY INFORMATION:

Board Meeting Agenda

Open Session

1. Approval of the November 21, 2024, Board Meeting Minutes

2. Monthly Reports

(a) Participant Report

(b) Investment Report

(c) Legislative Report

3. Quarterly Reports

(d) Vendor Risk Management

4. 2025 Board Calendar Review

Closed Session

5. Information covered under 5 U.S.C. 552b (c)(10).

Authority: 5 U.S.C. 552b (e)(1).

Dated: December 9, 2024.
Dharmesh Vashee,
General Counsel, Federal Retirement Thrift Investment Board.

[FR Doc. 2024-29340 Filed 12-12-24; 8:45 am]

BILLING CODE P